DEPARTMENT OF HEALTH AND HUMAN SERVICES

Office of Inspector General

Office of the Secretary; Statement of Organization, Functions, and Delegations of Authority

This notice amends Part A (Office of the Secretary), chapter AF of the Statement of Organization, Functions, and Delegations of Authority for the Department of Health and Human Services (HHS) to reflect a title change and adjusted responsibilities within the Office of Inspector General's (OIG) Office of Evaluation and Inspections (OEI) to better reflect the current work environment and responsibilities with regard to (1) oversight activities of the State Medicaid Fraud Control Units, and (2) coordinative efforts within the Technical Support unit with the Chief Information Officer for technology support and compliance on information security requirements. Chapter AF was last amended on December 21, 2006 (71 FR 76676).

As amended, sections AFE.10 and AFE.20 of Chapter AF now read as follows:

* * * * *

Section AFE.10, Office of Evaluation and Inspections—Organization

This office is comprised of the following components:

A. Immediate Office.

B. Budget and Administrative Resources Division.

C. Evaluation Planning and Support Division.

D. Regional Operations.

E. Technical Support Staff.

F. Medicaid Fraud Policy and Oversight Staff.

Section AFE.20, Office of Evaluation and Inspections—Function

* * * * *

B. Budget and Administrative Resources

This office develops OEI's evaluation and inspection policies, procedures, and standards. It manages OEI's human and financial resources; monitors OEI's management information systems; and conducts management reviews within HHS/OIG and for other OIGs upon request. The office carries out and maintains an internal quality assurance system that includes quality assessment studies and quality control reviews of OEI processes and products to ensure that policies and procedures are effective, followed, and function as intended.

* * * * *

E. Technical Support

This office provides statistical and database advice and services for inspections conducted by the regional offices. It carries out analyses of large databases to identify potential areas of fraud and abuse. The office also coordinates with the Office of Management and Policy and Chief Information Officer for technology support and compliance with information security requirements and government mandates, regulations, and guidelines.

F. Medicaid Fraud Policy and Oversight Staff

The Medicaid Fraud Policy and Oversight Staff is responsible for overseeing the activities of the 50 State Medicaid Fraud Control Units (MFCUs) (49 States and the District of Columbia). The staff provides advice and policy determinations to the Deputy Inspector General, OEI, in matters involving the planning, discussion, and coordination of policy and oversight activities affecting State MFCUs. The division ensures the MFCUs' compliance with Federal grant regulations, administrative rules, and performance standards. It is also responsible for certifying and recertifying the MFCUs on an annual basis.

* * * * *

Dated: March 3, 2008.
Daniel R. Levinson,
Inspector General.

[FR Doc. E8-4453 Filed 3-6-08; 8:45 am]

BILLING CODE 4152-01-P